COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products and services to be furnished by nonprofit agencies employing persons who are blind or have other severe disabilities, and deletes from the Procurement List products previously furnished by such agencies.

EFFECTIVE DATE: April 29, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION:

Additions:

On November 9 and November 23, 2001, January 11, February 1, February 8 and February 15, 2002, the Committee for Purchase From People Who Are Blind or Severely Disabled published notice (66 FR 56635 and 58712, 67 FR 1436, 4944, 5965 and 7130) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the products and services to the Government.

2. The action will not have a severe economic impact on current contractors for the products and services.

3. The action will result in authorizing small entities to furnish the products and services to the Government.

4. There are no known regulatory alternatives which would accomplish the objectives of the Javits-Wagner-ODay Act (41 U.S.C. 46-48c) in connection with the products and services proposed for addition to the Procurement List.

Accordingly, the following products and services are added to the Procurement List:

Products

Product/NSN: Labels, Laser/7530-00-NIB-0527.

Product/NSN: Labels, Laser/7530-00-NIB-0528.

Product/NSN: Labels, Laser/7530-00-NIB-0530.

Product/NSN: Labels, Laser/7530-00-NIB-0531.

Product/NSN: Labels, Laser/7530-00-NIB-0532.

Product/NSN: Labels, Laser/7530-00-NIB-0533.

Product/NSN: Labels, Laser/7530-00-NIB-0534.

Product/NSN: Labels, Laser/7530-00-NIB-0535.

Product/NSN: Labels, Laser/7530-00-NIB-0536.

Product/NSN: Labels, Laser/7530-00-NIB-0582.

Product/NSN: Labels, Laser/7530-00-NIB-0648.

Product/NSN: Labels, Laser/7530-00-NIB-0649.

NPA: North Central Sight Services, Inc., Williamsport, PA.

Contract Activity: Office Supplies & Paper Products Commodity Center, New York, NY.

Services

Service Type/Location: Administrative Support Services/GSA PBS Atlanta PMC, Atlanta, GA.

NPA: Blind & Low Vision Services of North Georgia, Smyrna, GA.

Contract Activity: GSA, Public Buildings Service.

Service Type/Location: Distribution of Licensed Products for the G.R.E.AT Department of the Treasury, Bureau of ATF, Washington, DC (25% of Total Government Requirement).

NPA: Industries for the Blind, Inc., Milwaukee, WI.

Contract Activity: Department of the Treasury, Bureau of ATF.

Service Type/Location: Eyewear Prescription Service/Department of Veterans Affairs Veteran Integrated Services Network 7, (Alabama, Georgia and South Carolina).

NPA: Winston-Salem Industries for the Blind, Winston-Salem, NC.

Contract Activity: Department of Veterans Affairs.

Service Type/Location: Janitorial/Custodial/Defense Commissary Agency Western Pacific Region, McClellan, CA.

NPA: PRIDE Industries, Roseville, CA.

Contract Activity: Defense Commissary Agency, Fort Lee, VA.

Service Type/Location: Janitorial/Custodial/Naval and Marine Corps Reserve Center, Boise, ID.

NPA: Western Idaho Training Company, Inc., Caldwell, ID.

Contract Activity: Naval Facilities Engineering Command—Everett, Everett, WA.

Service Type/Location: Janitorial/Custodial/Naval and Marine Corps Reserve Center, Eugene, OR.

NPA: Pearl Buck Center Incorporated, Eugene, OR.

Contract Activity: Naval Facilities Engineering Command—Everett, Everett, WA.

Service Type/Location: Janitorial/Custodial/Veterans Affairs Outpatient Clinic, Greenville, SC.

NPA: Greenville Rehabilitation Center, Greenville, SC.

Contract Activity: Department of Veterans Affairs.

Service Type/Location: Janitorial/Custodial/Border Patrol Air Operations Facility, (Marfa Airport), Marfa, TX.

Service Type/Location: Janitorial/Custodial/Border Patrol Anti-Smuggling Unit Office, Marfa, TX.

Service Type/Location: Janitorial/Custodial/Border Patrol Station, Alpine, TX.

Service Type/Location: Janitorial/Custodial/Border Patrol Station, Fort Stockton, TX.

Service Type/Location: Janitorial/Custodial/Border Patrol Station, Marfa, TX.

Service Type/Location: Janitorial/Custodial/Border Patrol Station, Pecos, TX.

Service Type/Location: Janitorial/Custodial/Border Patrol Station, Presidio, TX.

Service Type/Location: Janitorial/Custodial/Border Patrol Station, Sanderson, TX.

Service Type/Location: Janitorial/Custodial/Border Patrol Station, Sierra Blanca, TX.

Service Type/Location: Janitorial/Custodial/Border Patrol Station, Van Horn, TX.

Service Type/Location: Janitorial/Custodial/Border Patrol Traffic Checkpoint, Alpine, TX.

Service Type/Location: Janitorial/Custodial/Border Patrol Traffic Checkpoint, Marathon, TX.

Service Type/Location: Janitorial/Custodial/Border Patrol Traffic Checkpoint, Marfa, TX.

Service Type/Location: Janitorial/Custodial/Border Patrol Traffic Checkpoint, Sierra Blanca, TX.

NPA: Professional Contract Services, Inc., Austin, TX.

Contract Activity: Immigration and Naturalization Service, DOJ.

Service Type/Location: Mailroom Operation/Internal Revenue Service-US Mint Headquarters, Washington, DC.

NPA: ServiceSource, Inc., Alexandria, VA.

Contract Activity: Internal Revenue Services.

Service Type/Location: Maintenance and Repair of Portable Light Towers/Basewide, Fort Hood, TX.

NPA: Professional Contract Services, Inc., Austin, TX.

Contract Activity: Army III Corps and Ft. Hood Contracting CMD, Ft. Hood, TX.

Deletions

I certify that the following action will not have a significant impact on a substantial number of small entities. The major factors considered for this certification were:

1. The action may result in additional reporting, recordkeeping or other compliance requirements for small entities.

2. The action will not have a severe economic impact on future contractors for the products.

3. The action may result in authorizing small entities to furnish the products to Government.

4. There are no known regulatory alternatives which would accomplish the objectives of the Javits-Wagner-ODay Act (41 U.S.C. 46-48c) in connection with the products deleted from the Procurement List.

After consideration of the relevant matter presented, the committee has determined that the products listed below are no longer suitable for procurement by the Federal Government under 41 U.S.C. 46048 and 41 CFR 51-2.4.

Accordingly, the following products are deleted from the Procurement List:

Products

Product/NSN: Squeegee, Floor-Cleaning/7920-00-224-8339.

Product/NSN: Squeegee, Floor-Cleaning/7920-00-530-5740.

Product/NSN: Squeegee, Floor-Cleaning/7920-00-965-4873.

NPA: There is currently no nonprofit agency authorized to provide these products.

Contract Activity: GSA, General Products Commodity Center, Fort Worth, TX.

Sheryl D. Kennerly,
Director, Information Management.

[FR Doc. 02-7640 Filed 3-28-02; 8:45 am]

BILLING CODE 6353-01-P